DEPARTMENT OF ENERGY

DOE Response to Recommendation 2004-2 of the Defense Nuclear Facilities Safety Board, Active Confinement Systems

AGENCY: Department of Energy.

ACTION: Notice.

SUMMARY: The Defense Nuclear Facilities Safety Board Recommendation 2004-2, concerning active confinement systems was published in the Federal Register on December 15, 2004 (69 FR 75047). In accordance with section 315(b) of the Atomic Energy Act of 1954, as amended, 42 U.S.C. 2286d(b), the Secretary transmitted the following response to the Defense Nuclear Facilities Safety Board on March 18, 2005.

DATES: Comments, data, views, or arguments concerning the Secretary's response are due on or before May 13, 2005.

ADDRESSES: Send comments, data, views, or arguments concerning the Secretary's response to: Defense Nuclear Facilities Safety Board, 625 Indiana Avenue NW., Suite 700, Washington, DC 20004.

FOR FURTHER INFORMATION CONTACT: Mr. Richard L. Black, Director, Office of Nuclear and Facility Safety Policy, Department of Energy, 270 Corporate Square Building, U.S. Department of Energy, 1000 Independence Avenue SW., Washington, DC 20585-0270.

Issued in Washington, DC on April 5, 2005.
Mark B. Whitaker, Jr.,
Departmental Representative to the Defense Nuclear Facilities Safety Board.

BILLING CODE 6450-01-P

[FR Doc. 05-7231 Filed 4-8-05; 8:45 am]

BILLING CODE 6450-01-C